ENVIRONMENTAL PROTECTION AGENCY

40 CFR Part 89

[AMS-FRL-7104-9 ]

Nonroad Diesel Emissions Standards Staff Technical Paper

AGENCY: Environmental Protection Agency (EPA).

ACTION: Availability of Staff Technical Paper.

SUMMARY: When we set the Tier 3 emission standards in 1998, available information indicated that the cooled exhaust gas recirculation (EGR) technology developed for highway diesel engines would be the primary means of compliance with these standards. In conducting our technology review, we have surveyed the recent engineering and scientific literature on advances in diesel emissions control. We have also reviewed information provided by engine manufacturers in support of our 2004 highway standards program, showing the considerable progress they have made in the design of robust EGR systems for use in highway engines. In addition, we have gathered information from engine manufacturers on their design plans for Tier 3 and their testing and development experience with control technologies they are likely to employ. This information shows that cooled EGR is but one of several technologies available to diesel engine manufacturers to meet the Tier 3 emission standards. This widening of technology options comes from the progress of development since 1998, but is also due to the fact that the 1998 final rule envisioned a Tier 3 program more closely aligned with future highway standards, in particular including comparable control of particulate matter (PM), rather than the less demanding set of Tier 3 standards that were actually adopted at the time, and that are the subject of this feasibility assessment. Based on the information we have gathered, we believe that the Tier 3 standards in the regulations on control of emissions from new and in-use nonroad compression-ignition engines are feasible in the timeframe established in the rule. We also believe that the Tier 2 standards for engines under 50 horsepower are likewise feasible, based on certification test data from Tier 1 engines in this power range showing that many of these engines are already meeting the Tier 2 standards. Additionally we stated that as a part of the 2001 Technology Review process, PM standards would be addressed. Given the need for further PM reductions, those will be addressed in a subsequent regulatory action.

DATES: EPA is requesting public review and comment on the Staff Technical Paper on or before January 4, 2002.

ADDRESSES: You may send written comments (in duplicate if possible) to Margaret Borushko, U.S. EPA, National Vehicle and Fuels Emission Laboratory, 2000 Traverwood, Ann Arbor, MI 48105. The Staff Technical Paper and supporting documents are available in the public docket A-2001-28. The docket is located at U.S. Environmental Protection Agency, 401 M St., SW, Room 1500, Washington, DC 20460 (on the ground floor in Waterside Mall) and is open from 8 a.m. to 5:30 p.m., Monday through Friday, except on government holidays. You can reach the docket office by telephone at (202) 260-7548 and by facsimile at (202) 260-4400. We may charge a reasonable fee for copying docket materials, as provided in 40 CFR part 2.

FOR FURTHER INFORMATION CONTACT: Margaret Borushko, U.S. EPA, National Vehicle and Fuels Emission Laboratory, 2000 Traverwood, Ann Arbor, MI 48105; Telephone (734) 214-4334; FAX: (734) 214-4816; E-mail: borushko.margaret@epa.gov. EPA comments hotline: 734-214-4370.

SUPPLEMENTARY INFORMATION: The Nonroad Diesel Emissions Standards Staff Technical Paper is available at the url: http://www.epa.gov/otaq/equip-hd.htm starting October 30, 2001. This serves as the Notice of Availability. The document discusses nonroad diesel engine technology for heavy duty applications, as well as the under 37 kW (50 hp) nonroad diesel engines within the context of the 2001 Nonroad Diesel Technology Review.

Readers should also note a new telephone number that will serve as a hotline for updated information related to the public comment period. People should call 734-214-4370.

Access to Technical Documents Through the Internet

Today's action is available electronically on the day of publication from the Office of the Federal Register Internet Web site listed below. Electronic copies of this technical staff paper and other documents associated with today's action are available from the EPA Office of Transportation and Air Quality Web site listed below. This service is free of charge, except any cost that you already incur for connecting to the Internet.

EPA Federal Register Web Site: http://www.epa.gov/docs/fedrgstr/epa-air/ (Either select a desired date or use the Search feature.)

Nonroad Diesel home page: http://www.epa.gov/otaq/equip-hd.htm

Please note that due to differences between the software used to develop the document and the software into which the document may be downloaded, changes in format, page length, etc., may occur.

Dated: November 9, 2001.
Robert Brenner,
Acting Assistant Administrator, Office of Air and Radiation.

[FR Doc. 01-28856 Filed 11-19-01; 8:45 am]

BILLING CODE 6560-50-P